DEPARTMENT OF TRANSPORTATION

Federal Aviation Administration

Notice of Intent To Release Certain Properties From All Terms, Conditions, Reservations and Restrictions of a Release Agreement Between the City of Fernandina Beach and the United States of America for a Parcel Previously Included in the Fernandina Beach Municipal Airport Property, Fernandina, FL

AGENCY: Federal Aviation Administration (FAA), DOT.

ACTION: Request for public comment.

SUMMARY: The FAA hereby provides notice of intent to release 2.63 acres near the Fernandina Beach Municipal Airport, Fernandina Beach, FL from the restrictions and reservations as contained in a Release Agreement between the United States of America and the City of Fernandina Beach, dated Novermber 24, 1954. The subject parcel is located on the Northwest Corner of Amelia Island Parkway and Amelia Road, north of the Fernandina Beach Municipal Airport in Nassau County. The subject parcel is defined as Nassau County, Florida, Parcel #06-2N-28-0000-0001-0010.

DATES: Comments are due on or before November 4, 2021.

ADDRESSES: Documents are available for review at Fernandina Beach Municipal Airport, and the FAA Airports District Office, 8427 SouthPark Circle, Suite 524, Orlando, FL 32819. Written comments on the Sponsor's request must be delivered or mailed to: Hilary Maull, Program Manager, Orlando Airports District Office, 8427 SouthPark Circle, Suite 524, Orlando, FL 32819.

FOR FURTHER INFORMATION CONTACT: Hilary Maull, Program Manager, Orlando Airports District Office, 8427 SouthPark Circle, Suite 524, Orlando, FL 32819.

SUPPLEMENTARY INFORMATION: The subject parcel was originally owned by the City of Fernandina Beach, Florida. On May 26, 1943, a ground lease was entered between the Federal Government and City of Fernandina Beach providing property for use as an airfield to be operated by the United States Navy. On July 9, 1947 a Cancellation of Lease and Quitclaim returned airport-owned property to the City of Fernandina Beach for the purposes of being operated as a public airport. On November 24, 1954 the United States of America, acting by and through the Administrator of Civil Aeronautics, and the City of Fernandina Beach approved a `Release of the property with Restrictions and Reservations' (Restrictions). The Restrictions were established under Paragraphs 1C, 1D, and 1E of said Release, for a portion of airport property which included the subject parcel. The Restictions were obligated to carry forward with the deed of the property. In 1954, the subject parcel was sold from the City of Fernandina Beach to a private entity, with Restrictions. Since the initial sale, the subject parcel has changed ownership multiple times.

The Restrictions implemented in 1954 are outdated compared to current FAA airport protection surface restrictions, and are no longer deemed necessary or relevant to the subject parcel. The release of Restrictions will allow the current property owner to re-sell the subject parcel for future development. Future use of the subject parcel must comply with all City of Fernandina Beach Zoning and land use regulations as established by the City of Fernandina Beach. Any proposed development of the subject parcel will require submittal of an Obstruction Evaluation/Airport Airspace Analysis (OE/AAA) for review by the Federal Aviation Administration.

Documents reflecting the Sponsor's request are available, by appointment only, for inspection at the Fernandina Beach Municipal Airport and the FAA Airports District Office.

Section 125 of The Wendell H. Ford Aviation Investment and Reform Act for the 21st Century (AIR-21) requires the FAA to provide an opportunity for public notice and comment prior to the “waiver” or “modification” of a sponsor's Federal obligation to use certain airport land for non-aeronautical purposes.

Bartholomew Vernace,
Manager, Orlando Airports District Office, Southern Region.

[FR Doc. 2021-21621 Filed 10-4-21; 8:45 am]

BILLING CODE 4910-13-P